FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than May 5, 2000.

A. Federal Reserve Bank of Richmond (A. Linwood Gill, III, Vice President) 701 East Byrd Street, Richmond, Virginia 23261-4528:

1. Sun Bancshares, Inc., Murrells Inlet, South Carolina; to become a bank holding company by acquiring 100 percent of the voting shares of SunBank, N.A. (in organization), Murrells Inlet, South Carolina.

B. Federal Reserve Bank of San Francisco (Maria Villanueva, Consumer Regulation Group) 101 Market Street, San Francisco, California 94105-1579:

1. Wells Fargo & Company, San Francisco, California; to acquire 100 percent of the voting shares of First Commerce Bancshares, Inc., Lincoln, Nebraska; National Bank of Commerce Trust & SA, Lincoln, Nebraska; City National Bank & Trust Corporation, Hastings, Nebraska; Overland National Bank of Grand Island; Grand Island, Nebraska; First National Bank & Trust of Kearney, Kearney, Nebraska; Western Nebraska National Bank, North Platte, Nebraska; First National Bank of McCook, McCook, Nebraska; First National Bank of West Point, West Point, Nebraska; and First Commerce Bank of Colorado, N.A., Colorado Springs, Colorado.

In connection with this application, Applicant also has applied to acquire First Commerce Technology, Inc., Lincoln, Nebraska, and thereby engage in data processing activities, pursuant to § 225.28(b)(14) of Regulation Y; First Commerce Mortgage, Inc., Lincoln, Nebraska, and thereby engage in mortgage purchasing and servicing company activities, pursuant to § 225.28(b)(1) of Regulation Y; Cabela's LLC, Lincoln, Nebraska, and thereby engage in credit card joint venture activities, pursuant § 225.28(b)(1) of Regulation Y; Community Mortgage Corp., Lincoln, Nebraska, and thereby engage in mortgage origination company activities, pursuant to § 225.28(b)(1) of Regulation Y; Elleven Corp., Lincoln, Nebraska, and thereby engage in holding and operating property used by company and its subsidiaries, pursuant to § 225.22(b)(2)(vi) of Regulation Y; Commerce Affiliated Life Insurance Co., Lincoln, Nebraska, and thereby engage in captive credit life insurance company activities, pursuant to § 225.28(b)(11) of Regulation Y; and First Commerce Investors, Inc., Lincoln, Nebraska, and thereby engage in investment advisory company activities, pursuant to § 225.28(b)(6) of Regulation Y.

Board of Governors of the Federal Reserve System, April 5, 2000.
Robert deV. Frierson,
Associate Secretary of the Board.

[FR Doc. 00-8809 Filed 4-7-00; 8:45 am]

BILLING CODE 6210-01-P